DEPARTMENT OF HOMELAND SECURITY

Office of the Secretary

[Docket No. DHS-2016-0071]

Privacy Act of 1974; Department of Homeland Security United States Citizenship and Immigration Services-005 Intercountry Adoptions Security System of Records

AGENCY: Department of Homeland Security, Privacy Office.

ACTION: Notice of Privacy Act system of records.

SUMMARY: In accordance with the Privacy Act of 1974, the Department of Homeland Security (DHS) proposes to update and reissue a current DHS system of records titled, “DHS/United States Citizenship and Immigration Services (USCIS)-005 Intercountry Adoptions Security” system of records. DHS/USCIS collects, uses, and maintains Intercountry Adoptions Security records on prospective adoptive parents and other individuals associated with an intercountry adoption-related application or petition.

DHS/USCIS is updating this system of records to: Clarify the information technology used to process intercountry adoption-based applications and petitions; update the categories of individuals in the system; clarify the categories of records in the system; update the legal authorities for the intercountry adoption immigration process from countries that are party to the Hague Convention on Protection of Children and Co-operation in Respect of Intercountry Adoption (Hague Adoption Convention) and from non-Hague Adoption Convention (orphan) countries; reflect an increased retention period for intercountry adoption records; include all sources of records for adoption-based forms used in the Hague Adoption Convention process and non-Hague (orphan) process; and add Routine Use R, which permits the disclosure of information to the Department of Health and Human Services. Additionally, this notice includes non-substantive changes to simplify the formatting and text of the previously published notice.

This updated system will be included in the Department of Homeland Security's inventory of record systems.

DATES: Submit comments on or before December 8, 2016. This updated system will be effective December 8, 2016.

ADDRESSES: You may submit comments, identified by docket number DHS-2016-0071 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Jonathan R. Cantor, (202) 343-1717, Acting Chief Privacy Officer, Privacy Office, Department of Homeland Security, Washington, DC 20528.

SUPPLEMENTARY INFORMATION:

I. Background

In accordance with the Privacy Act of 1974, 5 U.S.C. 552a, the DHS/USCIS proposes to update and reissue a current DHS system of records titled, “DHS/USCIS-005 Intercountry Adoptions Security” system of records.

DHS/USCIS oversees certain intercountry adoption-related requests from U.S. citizens seeking to adopt a child from a foreign country and bring that child to the United States to permanently live with them. The intercountry adoption process is a cooperative effort between USCIS and the Department of State (DOS). USCIS plays a vital role in the intercountry adoption process by determining the suitability and eligibility of a prospective adoptive parent to adopt, and by determining the eligibility of a child to immigrate as an immediate relative of a U.S. citizen under 8 U.S.C. 1101(b)(1)(F) or (G). USCIS receives and adjudicates both domestic and internationally-filed applications and petitions related to intercountry adoptions. DHS delegated authority to DOS to approve certain adoption-related petitions on behalf of USCIS. The Department of State also adjudicates the application for an immigrant visa for the child, which permits the child to immigrate into the United States.

USCIS uses two information technology (IT) systems to process intercounty adoption filings, depending on whether the intercounty adoption application was filed domestically or internationally. The USCIS National Benefits Center (NBC) processes all Hague and domestically-filed orphan intercountry adoption filings. USCIS uses the National Benefits Center's Adoption Case Management System (ACMS) within the National Processing Workflow Repository (NPWR) as the case management system for domestically filed intercountry adoption-based applications and petitions from receipt of the application or petition to final adjudication. USCIS uses the Case and Activity Management for International Operations (CAMINO) system to process applications and petitions filed internationally with USCIS international offices. Previously, USCIS used the Secure Information Management Service (SIMS) to track and review intercountry adoption cases. SIMS, however, did not fully meet the case tracking requirements of the intercountry adoption process. USCIS decommissioned SIMS after the launch of these systems.

USCIS is updating this system of records to: (1) Identify the Adoptions Case Management System (ACMS) and Case and Activity Management for International Operations (CAMINO) as the information technology systems used to process intercountry adoption-based applications and petitions; (2) update the categories of individuals in the system to include other individuals whose presence in the residence of the prospective adoptive parent(s) (known as the Adult Household Member) as relevant to determine suitability; (3) clarify the categories of record in the system; (4) update the legal authorities for the intercountry adoption immigration process to include the Intercountry Adoption Universal Accreditation Act of 2012 (UAA) (Pub. L. 112-276), which went into effect on July 14, 2014; (5) reflect a reduced retention period from 75 years to 25 and 15 years for internationally and domestically, respectively, filed intercountry adoption applications and petitions; (6) update the sources of records to include Hague petition and application forms (i.e., Form I-800 and Form I-800A); and (7) add Routine Use R, which permits the disclosure of information to the Department of Health and Human Services. Additionally, this notice includes non-substantive changes to simplify the formatting and text of the previously published notices.

Consistent with DHS's information-sharing mission, information stored in the DHS/USCIS-005 Intercountry Adoptions Security may be shared with other DHS components that have a need to know the information to carry out their national security, law enforcement, immigration, intelligence, or other homeland security functions. In addition, when appropriate, information may be shared with appropriate Federal, State, local, tribal, territorial, foreign, or international government agencies consistent with the routine uses set forth in this system of records notice unless disclosure is otherwise prohibited under the confidentiality statutes, regulations, or policies applicable to that information.

This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-005 Intercountry Adoptions Security System of Records.

In accordance with 5 U.S.C. 552a(r), DHS has provided a report of this system of records to the Office of Management and Budget and to Congress.

System of Records

Department of Homeland Security (DHS)/United States Citizenship and Immigration Services (USCIS)-005

System name:

DHS/USCIS-005 Intercountry Adoptions Security

Security classification:

Unclassified, Sensitive.

System location:

Intercountry adoption records are maintained in the ACMS or CAMINO IT systems and associated electronic and paper files located at the USCIS NBC, service centers, and domestic and international field offices.

Categories of individuals covered by the system:

Categories of individuals covered by this system include:

(1) All individuals, including the applicant or petitioner (and spouse, if married), seeking an intercountry adoption through the Hague Adoption Convention process or non-Hague orphan process;

(2) All individuals who meet the definition of an adult member of the household; ¹

¹ Adult member of the household is defined as: (1) Any individual, other than the applicant, who has the same principal residence as the applicant and who had reached his or her 18th birthday on or before the date the form is filed; or (2) any person who has not yet reached his or her 18th birthday before the date the form is filed, or who does not actually live at the same residence, but whose presence in the residence is relevant to the issue of suitability to adopt, if the officer adjudicating the form concludes, based on the facts of the case, that it is necessary to obtain an evaluation of how that persons presence in the home affects the determination whether the applicant is suitable as the adoptive parent(s) of a Convention adoptee.

(3) Any other individual whose presence in the applicant's or petitioner's residence is relevant to the suitability of the prospective adoptive parent(s) suitability to adopt;

(4) Representatives, including attorneys, adoption service providers, and form preparers, of the prospective adoptive parent(s);

(5) Children being adopted; and

(6) Birth mothers, fathers, or custodians of adopted children.

Categories of records in the system:

Information about the prospective adoptive parent(s) may include:

• Full Name;

• Alias(es);

• Gender;

• Physical and mailing address;

• Address abroad;

• Email address;

• Telephone number;

• Physical Description (e.g., height, weight, eye color, hair color, race, ethnicity, identifying marks like tattoos or birthmarks);

• Biometric (i.e., fingerprints and photographs) and other information (i.e., race, ethnicity, weight, height, eye color, hair color) collected to conduct background checks;

• Date of birth;

• Country of birth;

• City of birth;

• State or Province of birth;

• Citizenship status;

• Naturalization history;

• Certificate of Citizenship or Certificate of Naturalization Number;

• Residence status;

• Marital history and status;

• Spouse's immigration status;

• USCIS Online Account Number;

• Social Security number (SSN);

• A-Number;

• USCIS Receipt/Case Number;

• Passport number;

• Country of adoption;

• Adoption filing history;

• Payments made and anticipated future payments in relation to the adoption;

• Criminal history;

• Photographs;

• Accommodations/Disabilities;

• Home study;

• Medical and Social History (e.g., vaccinations, referrals, communicable diseases, physical or mental disorders); ²

² See 8 CFR 204.311(m)

• Financial Information (e.g., income, expenses, scholarships, savings, assets, property, financial support, supporter information, life insurance, debts, encumbrances, tax records);

• Supporting Documentation as necessary (e.g., birth, marriage, divorce certificates; licenses; academic diplomas; academic transcripts; appeals or motions to reopen or reconsider decisions; explanatory statements; deoxyribonucleic acid (DNA) results; and unsolicited information submitted voluntarily by the benefit requestor or family members in support of a benefit request);

• Proof of Citizenship (i.e., unexpired passport, citizenship/naturalization certificate, school records, census records, church records, and affidavits);

• Proof of Marriage and termination of previous marriages;

• Criminal and National Security Background Check Results;

• Case Decision; and

• Signature.

Information about any adult members of the household may include:

• Full Name;

• Alias(es);

• Gender;

• Mailing address;

• Email address;

• Telephone number;

• Date of birth;

• County of birth;

• State or Province of birth;

• City, Town, or Village of Birth;

• A-Number;

• SSN;

• Passport number;

• Relationship to Prospective adoptive parent(s);

• Photographs;

• Physical Description (e.g., height, weight, eye color, hair color, race, ethnicity, identifying marks like tattoos or birthmarks);

• Biometric (i.e., fingerprints and photographs) and other information (i.e., race, ethnicity, weight, height eye color, hair color) collected to conduct background checks;

• Criminal and National Security background check results;

• Accommodations/Disabilities;

• Signature; and

• Email Address.

Information about the adoptive beneficiary may include:

• Full Name at Birth;

• Full Name at Present;

• Alias;

• Date of birth;

• Gender;

• Country of birth

• City/Town/Village of Birth;

• Place of habitual residency;

• Present legal custodian;

• Present address;

• Address where the beneficiary will reside;

• Parental history and custody information (e.g., birthmothers, fathers, or custodians of adopted children);

• Date of adoption;

• Country/Place of adoption;

• Physical or mental afflictions;

• Accommodations/disabilities;

• A-Number;

• Passport number;

• Relationship to prospective adoptive parent, if any;

• Article 16 Report, which is an official report from countries that are party to the Hague Adoption Convention, on a child's psychological, social, medical history, and reasons the child is in need of an adoptive placement;

• Supporting Documentation as Necessary (e.g., birth certificate, appeals or motions to reopen or reconsider decisions, DNA results); and

• Case decision.

Information about birth mothers, fathers, or custodians of adopted children:

• Name;

• Date of birth;

• Relationship to adopted child(ren) (e.g., living birth parent, surviving birth parent, sole birth parent); and

• Supporting documentation (identity information, death certificates, DNA test results, description of how the child beneficiary was abandoned or released for adoption, consent to adoption, adoption documentation, etc.).

Information about the adoption service providers and home study preparers may include:

• Name;

• Organization name;

• Mailing address;

• Phone and Fax numbers;

• Email address;

• Accreditation or Approval status; and

• Signature.

Information about the preparer may include:

• Full name;

• Organization or Business name;

• Business State ID number;

• Employer Tax Identification Number;

• Physical and Mailing addresses;

• Email address;

• Phone and fax numbers;

• Relationship to benefit requestor; and

• Signature.

Information about the representative may include:

• Name;

• Law firm/Recognized organization name;

• Physical and Mailing addresses;

• Phone and fax numbers;

• Email address;

• USCIS Online Account Number;

• Attorney Bar Card Number or equivalent;

• Bar Membership;

• Accreditation date;

• Source of Accreditation;

• Board of Immigration Appeals Representative Accreditation;

• Expiration date;

• Law Practice Restriction Explanation; and

• Signature.

Authority for maintenance of the system:

The legal authorities for intercountry adoption from Hague Adoption Convention countries include the Hague Adoption Convention, the Intercountry Adoption Act of 2000, 8 U.S.C. 1101(b)(1)(G) (INA 101(b)(1)(G)), and 8 CFR 204.300-204.314. The legal authorities for intercountry adoption for non-Hague Adoption Convention countries include the Intercountry Adoption Universal Accreditation Act of 2012, Consolidated Appropriations Act of 2014 sec. 7083, 8 U.S.C. 1101(b)(1)(F) (INA 101(b)(1)(F)), and 8 CFR 204.3.

Purpose(s):

USCIS collects information on prospective adoptive parents and other associated individuals in order to assess the suitability and eligibility of the prospective adoptive parent(s) to adopt. USCIS also collects information pertaining to the child to be adopted to determine whether he or she is eligible to immigrate as an immediate relative of a U.S. citizen under INA sec. 101(b)(1)(F) or (G). USCIS collects information on organizations that facilitate the adoption process, including law firms, home study preparers, accredited agencies, approved persons, exempted providers, supervised providers, and other adoption service providers so that USCIS can track and verify those entities that are authorized to participate in the adoption process. Finally, as a fraud monitoring tool, USCIS collects available biographic information relating to the birth parents and the custodians of the children being adopted.

Routine uses of records maintained in the system, including categories of users and the purposes of such uses:

Except as permitted by the Privacy Act, 5 U.S.C. 552a and applicable routine uses, USCIS may not disclose or give access to any information or record relating to any applicant, petitioner, spouse (if married), or adult member of the household to any individual or entity other than that person, including an accredited agency, approved person, exempted provider, supervised provider, or other adoption service provider, absent written consent, as provided by the Privacy Act, 5 U.S.C. 552a.

In addition to those disclosures generally permitted under 5 U.S.C. 552a(b) of the Privacy Act, all or a portion of the records or information contained in this system may be disclosed outside DHS as a routine use pursuant to 5 U.S.C. 552a(b)(3). Even when a valid routine use permits disclosure of information from this system of records to a third party, in some cases such disclosure may not be permissible because of confidentiality laws and policies that limit the sharing of information regarding individuals applying for certain immigration benefits. These confidentiality provisions may be subject to certain exceptions which would allow for disclosure, such as in the case of a criminal or civil investigation.

A. To the Department of Justice (DOJ), including Offices of the U.S. Attorneys, or other federal agencies conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, local, tribal, territorial, international, or foreign law enforcement agency or other appropriate authority charged with investigating or prosecuting a violation, enforcing, or implementing a law, rule, regulation, or order, when a record, either on its face or in conjunction with other information, indicates a violation or potential violation of law, which includes criminal, civil, or regulatory violations and such disclosure is proper and consistent with the official duties of the person making the disclosure.

H. To clerks and judges of courts exercising naturalization jurisdiction to enable such courts to determine eligibility for naturalization and grounds for revocation of naturalization.

I. To DOS in the processing of visas, applications, or petitions for benefits under the INA, and all other immigration and nationality laws including treaties and reciprocal agreements.

J. To an attorney or representative (as defined in 8 CFR 1.2) who is acting on behalf of an individual covered by this system of records.

K. To appropriate federal, state, tribal, and local government law enforcement and regulatory agencies, foreign governments, and international organizations for example the Department of Defense, the DOS, the Department of the Treasury, the United Nations, and INTERPOL and individuals and organizations during the course of an investigation by DHS or the processing of a matter under DHS's jurisdiction, or during a proceeding within the purview of the immigration and nationality laws, when necessary to elicit information required by DHS to carry out its functions and statutory mandates.

L. To an appropriate federal, state, tribal, local, or foreign government agency or organization, or international organization, lawfully engaged in collecting law enforcement intelligence, whether civil or criminal, or charged with investigating, prosecuting, enforcing, or implementing civil or criminal laws, related rules, regulations or orders, to enable these entities to carry out their law enforcement responsibilities, including the collection of law enforcement intelligence, and the disclosure is appropriate to the proper performance of the official duties of the person making the disclosure.

M. To an appropriate federal, state, local, tribal, territorial, foreign, or international agency, if the information is relevant and necessary to a requesting agencies decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant, or other benefit and when disclosure is appropriate to the proper performance of the official duties of the person making the request.

N. To a federal, state, or local government agency, or employer seeking to verify or ascertain the citizenship or immigration status of any individual within the jurisdiction of the agency or employer for any purpose authorized by law.

O. To the Social Security Administration (SSA) for the purpose of issuing a Social Security number and card to an alien who has made a request for a Social Security number as part of the immigration process and in accordance with any related agreements in effect between the SSA, DHS, and the DOS entered into pursuant to 20 CFR 422.103(b) (3); 422.103(c); and 422.106(a), or other relevant laws and regulations.

P. To federal and foreign government intelligence or counterterrorism agencies or components when DHS becomes aware of an indication of a threat or potential threat to national or international security, or when the information is needed to assist in anti-terrorism efforts and disclosure is appropriate to the proper performance of the official duties of the person making the disclosure.

Q. To officials of other federal, state, and local government agencies and adoption agencies and social workers to elicit information required for making a final determination of the prospective adoptive parent's ability to care for a beneficiary or the beneficiary's immigration eligibility.

R. To the Department of Health and Human Services to obtain information about children who are under its legal custody and/or protection.

S. To the news media and the public, with the approval of the Chief Privacy Officer in consultation with counsel, when there exists a legitimate public interest in the disclosure of the information, when disclosure is necessary to preserve confidence in the integrity of DHS, or when disclosure is necessary to demonstrate the accountability of DHS officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS/USCIS stores records in this system electronically or on paper in secure facilities in a locked drawer or behind a locked door. The records may be stored on magnetic disc, tape, cloud services, and digital media.

Retrievability:

Records may be retrieved by an individual's name, date of birth, address, A-Number, Receipt Number, SSN, or a combination thereof.

Safeguards:

DHS/USCIS safeguards records according to applicable rules and policies, including all applicable DHS automated systems security and access policies. DHS/USCIS has imposed strict controls imposed to minimize the risk of compromising the information that is being stored. Access to the computer system containing the records in this system is limited to those individuals who have a need to know the information for the performance of their official duties and who have appropriate clearances or permissions.

Retention and disposal:

DHS/USCIS stores the physical documents (paper forms) and supplemental documentation in the Alien File and processes applications and petitions in the respective DHS/USCIS case management system. Physical applications and supplemental documentation is stored in the Alien File. The A-File records are permanent whether hard copy or electronic. USCIS transfers the A-Files to the custody of NARA 100 years after the individual's date of birth.

Electronic benefits information is archived and disposed of in accordance with NARA-approved retention schedule for the respective USCIS case management systems (CAMINO and ACMS):

• Electronic data pertaining to intercountry applications and petitions filed internationally are electronically stored in CAMINO. NARA approved the CAMINO retention schedule [N1-566-12-06] on April 17, 2013. CAMINO retains records 25 years from the last completed action.

• Electronic data pertaining to intercountry applications and petitions filed domestically are stored in ACMS. USCIS is working with NARA to develop a retention and disposal schedule for data contained within ACMS. USCIS proposal for retention and disposal of these records is to store and retain adoption related records for 15 years, during which time the records will be archived. The 15 year retention period is derived from the length of time USCIS may interact with a customer.

System Manager and address:

Assistant Center Director, Adoptions, National Benefits Center, Overland Park, KS 66213; and Director, Refugee, Asylum, and International Operations Directorate, 20 Massachusetts Avenue NW., Washington, DC 20529.

Notification procedure:

Individuals seeking notification of and access to any record contained in this system of records, or seeking to contest its content, may submit a request in writing to the National Records Center (NRC) FOIA/PA Office, P.O. Box 648010, Lee's Summit, MO 64064-8010. The NRC can be found at http://www.dhs.gov/foia under “Contacts.” If an individual believes more than one component maintains Privacy Act (PA) records concerning him or her, the individual may submit the request to the Chief Privacy Officer and Chief Freedom of Information Act (FOIA) Officer, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Information contained in this system of records is primarily supplied by prospective adoptive parents and adult members of the household on forms associated with either the Hague Adoption Convention process or the orphan intercountry adoption process. These application and petition forms include:

• Form I-600, Petition to Classify Orphan as an Immediate Relative

• Form I-600A, Application for Advance Processing of Orphan Petition

• Form I-600A/Form I-600, Supplement 1 (Listing of Adult Member of the Household)

• Form I-800, Petition to Classify Convention Adoptee as an Immediate Relative

• Form I-800A, Application for Determination of Suitability to Adopt a Child from Convention Country

• Form I-800A Supplement 1 (Listing of Adult Member of the Household)

• Form I-800A Supplement 2 (Consent to Disclose Information)

• Form I-800A Supplement 3 (Request for Action on Approved Form I-800A)

Information contained in this system of records is also obtained through representatives of prospective adoptive parents and other organizations involved in an intercountry adoption case including information from the child's country of origin; the home study prepared by an authorized home study preparer submitted to USCIS in furtherance of the intercountry adoption immigration process; interviews performed by authorized USCIS and DOS personnel of individuals seeking to adopt; and data obtained from other DHS and non-DHS federal agency's systems and databases, including the Federal Bureau of Investigation, DOS, and U.S. Customs and Border Protection.

Specifically, Intercountry Adoptions Security stores and uses information from the following USCIS, DHS, and other federal agency systems of records:

• DHS/USCIS/ICE/CBP-001 Alien File, Index, and National File Tracking System of Records, 78 FR 69864 (November 21, 2013);

• DHS/USCIS-002 Background Check Service, 72 FR 31082 (June 5, 2007);

• DHS/USCIS-003 Biometric Storage System, 72 FR 17172 (April 6, 2007);

• DHS/USCIS-006 Fraud Detection and National Security Records (FDNS) 77 FR 47411 (August 8, 2012);

• DHS/USCIS-007 Benefit Information System, 81 FR 72069, (October 19, 2016)

• DHS/CBP-011 U.S. Customs and Border Protection TECS, 73 FR 77778 (December 19, 2008);

• DHS/CBP-021 Arrival and Departure Information System (ADIS), 80 FR 72081 (November 18, 2015);

• DHS/NPPD-004 DHS Automated Biometric Identification System (IDENT), 72 FR 31080 (June 5, 2007);

• JUSTICE/FBI-002 The FBI Central Records System, 72 FR 3410 (January 25, 2007);

• JUSTICE/FBI-009 Fingerprint Identification Records System (FIRS), 72 FR 3410 (January 25, 2007);

• STATE-05 Overseas Citizens Services Records, 73 FR 24343 (May 2, 2008);

• STATE-26 Passport Records, 76 FR 34966 (July 6, 2011); and

• STATE-39 Visa Records, 77 FR 65245 (October 25, 2012).

Exemptions claimed for the system:

None.

Dated: October 27, 2016.
Jonathan R. Cantor,
Acting Chief Privacy Officer, Department of Homeland Security.

[FR Doc. 2016-26498 Filed 11-7-16; 8:45 am]

BILLING CODE 9111-97-P